DEPARTMENT OF LABOR

Occupational Safety and Health Administration

[Docket No. ICR-1218-0172(2004)]

Student Data Form; Extension of the Office of Management and Budget's Approval of Information Collection (Paperwork) Requirements

AGENCY: Occupational Safety and Health Administration (OSHA), Labor.

ACTION: Request for comment.

SUMMARY: OSHA solicits comments concerning its proposal to extend OMB approval of the information collection requirements contained in its Student Data Form.

DATES: Comments must be submitted by the following dates:

Hard Copy: Your comments must be submitted (postmarked or received) by May 17, 2004.

Facsimile and electronic transmission: Your comments must be received by May 17, 2004.

ADDRESSES:

I. Submission of Comments. Regular mail, express delivery, hand delivery, and messenger service: Submit your comments and attachments to the OSHA Docket Office, Docket No. ICR 1218-0172(2004), Room N-2625, U.S. Department of Labor, 200 Constitution Avenue, NW., Washington, DC 20210. OSHA Docket Office and Department of Labor hours of operation are 8:15 a.m. to 4:45 p.m., EST.

Facsimile: When your comments, including any attachments, are 10 pages or fewer, you may fax them to the OSHA Docket Office at (202) 693-1648. You must include the docket number, ICR 1218-0172(2004), in your comments.

Electronic: You may submit comments, but not attachments, through the Internet at http://ecomments.osha.gov/.

You may submit comments in response to this document by (1) hard copy, (2) fax transmission (facsimile), or (3) electronically through the OSHA webpage. Please note you cannot attach materials such as studies or journal articles to electronic comments. When you have additional materials, you must submit three copies of them to the OSHA Docket Office at the address above. The additional materials must clearly identify your electronic comments by name, date, subject and docket number so we can attach them to your comments. Because of security-related problems, a significant delay may occur in the receipt of comments by regular mail. Please contact the OSHA Docket Office at (202) 693-2350 for information about security procedures concerning the delivery of materials by express delivery, hand delivery and messenger service.

II. Obtaining Copies of the Supporting Statement for the Information Collection Request. The Supporting Statement for the Information Collection Request is available for downloading from OSHA's Web site at www.osha.gov. The Supporting Statement is available for inspection and copying in the OSHA Docket Office at the address listed above. A printed copy of the Supporting Statement can be obtained by contacting Todd Owen at (202) 693-1941.

FOR FURTHER INFORMATION CONTACT: Gail Butler, Division of Administration and Training Information, OSHA Office of Training and Education, 1555 Times Drive, Des Plaines, IL 60018; telephone (847) 297-4810.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimized, collection instruments are understandable, and OSHA's estimate of the information collection burden is correct.

Section 21 of the Occupational Safety and Health Act of 1970 (the “OSH Act”) (29 U.S.C. 670) authorizes the Occupational Safety and Health Administration (“OSHA” or the “Agency”) to conduct education and training courses. These courses must ensure an adequate number of qualified personnel to fulfill the purposes of the Act, provide them with short-term training, inform them of the importance and proper use of safety and health equipment, and train employers and employees to recognize, avoid, and prevent unsafe and unhealthful working conditions, occupational education and training courses.

Under Section 21 of the Act, the OSHA Training Institute (the “Institute”) provides basic, intermediate, and advanced training and education in occupational safety and health for Federal and State compliance officers, Agency professionals and technical-support personnel, employers, employees, organizations representing employees and employers, educators who develop curricula and teach occupational safety and health courses, and representatives of professional safety and health groups. The Institute provides courses on occupational safety and health at its national training facility in Des Plaines, Illinois.

Students attending Institute courses complete the one-page Student Data Form (OSHA Form 182, 5/98 edition) on the first day of class. The form provides information under five major categories titled “Course Information,” “Personal Data,” “Employer Data,” “Emergency Contacts,” and “Students Groups.” The OSHA Office of Training and Education (the “Office”) compiles, for each fiscal year, the following information from the “Course Information” and “Student Groups” categories: Total student attendance at the Institute; the number of students attending each training course offered by the Institute; and the types of students attending these courses (for example, students from Federal or State occupational safety and health agencies). The Office uses this information to demonstrate, in an accurate and timely manner, that the Agency is providing the training and employee education mandated by Section 21 of the Act. OSHA also uses this information to evaluate training output, and to make decisions regarding program/course revisions, budget support, and tuition costs.

The Agency uses the information collected under the “Course Information,” “Personal Data,” and “Employer Data” to identify private-sector students so that it can collect tuition costs from them or their employers as authorized by 31 U.S.C. 9701 (“Fees and Charges for Government Services and Things of Value”); Office of Management and Budget Circular A-25 (“User Charges”); and 29 CFR part 1949 (“Office of Training and Education, Occupational Safety and Health Administration”). The information in the “Personal Data” and “Emergency Contacts” categories permits OSHA to contact students who are residing in local hotels/motels if an emergency arises at their home or place of employment, and to alert supervisors/alternate contacts of a trainee's injury or illness.

II. Special Issues for Comment

OSHA has a particular interest in comments on the following issues:

• Whether the proposed information collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection of information requirements contained in Student Data Form. The Agency will summarize the comments submitted in response to this notice, and will include this summary in its request to OMB to extend the approval of these information collection requirements.

Type of Review: Extension of a currently approved information collection requirement.

Title: Student Data Form.

OMB Number: 1218-0172.

Affected Public: Individuals; business or other for-profit organizations; Federal government; State, Local, or Tribal governments.

Number of Respondents: 5,000.

Frequency: On occasion.

Total Responses: 5,000.

Average Time Per Response: 5 minutes.

Estimated Total Burden Hours: 417 hours.

Estimated Cost (Operation and Maintenance): $-0-.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on March 11th, 2004.
John L. Henshaw,
Assistant Secretary of Labor.

[FR Doc. 04-5895 Filed 3-15-04; 8:45 am]

BILLING CODE 4510-26-M